DEPARTMENT OF COMMERCE

National Oceanic and Atmospheric Administration

[I.D. 032601D]

Atlantic Highly Migratory Species; Notice of Availability of Draft Biological Opinion

AGENCY: National Marine Fisheries Service (NMFS), National Oceanic and Atmospheric Administration (NOAA), Commerce.

ACTION: Notice of availability of the draft biological opinion on authorization of the fisheries under the Fishery Management Plan for Atlantic Tunas, Swordfish and Sharks.

SUMMARY: NMFS announces the availability of a draft biological opinion on authorization of the fisheries under the Fishery Management Plan for Atlantic Tunas, Swordfish and Sharks.

DATES: The draft document is now available. Comments on the draft document will be accepted through 5 p.m. EST on April 18, 2001.

ADDRESSES: Copies of the draft document may be obtained from Christopher Rogers, Acting Chief, Highly Migratory Species Management Division, NMFS, 1315 East-West Highway, Silver Spring, MD 20910, (301) 713-2347. Written comments on the document must be mailed to Bruce C. Morehead, Acting Director, Office of Sustainable Fisheries, National Marine Fisheries Service, 1315 East-West Highway, Silver Spring, MD 20910; or faxed to 301-713-1917. Comments will not be accepted if submitted via email or the Internet.

FOR FURTHER INFORMATION CONTACT: Christopher Rogers, 301-713-2347.

SUPPLEMENTARY INFORMATION: The Endangered Species Act draft biological opinion on authorization of fisheries under the Fishery Management Plan for Atlantic Tunas, Swordfish, and Sharks is now available for review. The document is available on the internet at (http://www.nmfs.noaa.gov/); printed copies are available from NMFS upon request (see ADDRESSES).

Authority: 16 U.S.C. 1801 et seq.

Dated: April 2, 2001.
Bruce C. Morehead,
Acting Director, Office of Sustainable Fisheries, National Marine Fisheries Service.

[FR Doc. 01-8943 Filed 4-10-01; 8:45 am]

BILLING CODE 3510-22-S